DEPARTMENT OF COMMERCE

International Trade Administration

[A-549-812]

Furfuryl Alcohol From Thailand; Preliminary Results of the Second Sunset Review of the Antidumping Duty Order

AGENCY: Import Administration, International Trade Administration, Department of Commerce.

SUMMARY: On April 3, 2006, the Department of Commerce (“the Department”) published the notice of initiation of the second sunset review of the antidumping duty order on furfuryl alcohol from Thailand. The Department preliminarily finds that revocation of the antidumping duty order would not likely lead to the continuation or recurrence of dumping.

DATES: Effective Date: October 26, 2006.

FOR FURTHER INFORMATION CONTACT: Audrey R. Twyman, Damian Felton, or Brandon Farlander, AD/CVD Operations, Office 1, Import Administration, International Trade Administration, U.S. Department of Commerce, 14th Street and Constitution Avenue, NW., Washington, DC 20230; telephone: 202-482-3534, 202-482-0133, and 202-482-0182, respectively.

SUPPLEMENTARY INFORMATION:

Background

On April 3, 2006, the Department published its notice of initiation of the second sunset review of the antidumping duty order on furfuryl alcohol from Thailand, in accordance with section 751(c) of the Tariff Act of 1930, as amended (“the Act”). See Initiation of Five-Year (“Sunset”) Reviews, 71 FR 16551 (April 3, 2006) (“Notice of Initiation”).

The Department received a notice of intent to participate from the domestic interested party, Penn Speciality Chemicals, Inc. (“Penn”), within the deadline specified in section 351.218(d)(1)(i) of the Department's regulations (“Sunset Regulations”). The domestic interested party claimed interested party status under section 771(9)(C) of the Act, as a manufacturer of a domestic like product in the United States.

The Department received complete substantive responses to the notice of initiation from the domestic interested party and respondent interested party (Indorama Chemical (Thailand) Ltd. (“Indorama”)) within the 30-day deadline specified in the Department's regulations under section 351.218(d)(3)(i). On May 8, 2006, the domestic interested party filed rebuttal comments to Indorama's substantive response.

On May 23, 2006, the Department determined that respondent interested party accounted for more than 50 percent of exports by volume of the subject merchandise and, therefore, submitted an adequate substantive response to the Department's Notice of Initiation. See Memorandum to Susan H. Kuhbach, Director, AD/CVD Operations, Office 1 “Adequacy Determination in Antidumping Duty Sunset Review of Furfuryl Alcohol From Thailand,” (May 23, 2006). In accordance with section 351.218(e)(2)(i) of the Department's regulations, the Department determined to conduct a full sunset review of this antidumping duty order. On July 14, 2006, in accordance with section 751(c)(5)(B) of the Act, the Department extended the deadlines for the preliminary and final results of this sunset review by 90 days from the originally scheduled dates. The final results in the full sunset review of this antidumping duty order are scheduled on or before February 27, 2007.

Scope of the Order

The merchandise covered by this order is furfuryl alcohol (C4H3OCH2OH). Furfuryl alcohol is a primary alcohol, and is colorless or pale yellow in appearance. It is used in the manufacture of resins and as a wetting agent and solvent for coating resins, nitrocellulose, cellulose acetate, and other soluble dyes. The product subject to this order is classifiable under subheading 2932.13.00 of the Harmonized Tariff Schedule of the United States (“HTSUS”). Although the HTSUS subheading is provided for convenience and customs purposes, our written description of the scope of this proceeding is dispositive.

Analysis of Comments Received

All issues raised in this sunset review are addressed in the “Issues and Decision Memorandum for the Second Sunset Review of the Antidumping Duty Order on Furfuryl Alcohol From Thailand; Preliminary Results,” to David M. Spooner, Assistant Secretary for Import Administration, dated October 20, 2006 (“Decision Memo”), which is hereby adopted by this notice. The issues discussed in the Decision Memo include the likelihood of continuation or recurrence of dumping and the magnitude of the margin likely to prevail if the antidumping duty order were revoked. Parties can find a complete discussion of all issues raised in this sunset review and the corresponding recommendations in this public memorandum, which is on file in room B-099 of the main Department building. In addition, a complete version of the Decision Memo can be accessed directly on the Web at http://ia.ita.doc.gov/frn/index.html. The paper copy and electronic version of the Decision Memo are identical in content.

Preliminary Results of Review

The Department preliminarily determines that revocation of the antidumping duty order on furfuryl alcohol from Thailand is not likely to lead to a continuation or recurrence of dumping. As a result of this determination, the Department preliminarily intends to revoke the antidumping duty order on furfuryl alcohol from Thailand, pursuant to section 751(d)(2) of the Act. Consistent with 19 CFR 351.222(i)(2)(i) and section 751(c)(6)(A)(iii) of the Act, this revocation would be effective May 4, 2006, the fifth anniversary of the date of publication in the Federal Register of the notice of continuation. See Notice of Continuation of Antidumping Duty Orders: Furfuryl Alcohol From the People's Republic of China and Thailand, 66 FR 22519 (May 4, 2001). We will notify the U.S. International Trade Commission (“ITC”) of our final results. We do not intend, however, to report a rate to the ITC as a determination by the Department that revocation of the order would not lead to a continuation or recurrence of dumping will result in revocation of the order. Moreover, the ITC has already ruled in this proceeding.

If the antidumping duty order is revoked, the Department will instruct the U.S. Customs and Border Protection to liquidate without regard to dumping duties entries of the subject merchandise entered or withdrawn from warehouse for consumption on or after May 4, 2006, (the effective date), and to discontinue collection of cash deposits of antidumping duties.

Any interested party may request a hearing within 30 days of publication of this notice in accordance with 19 CFR 351.310(c). Consistent with 19 CFR 351.309(c)(1)(i), interested parties may submit case briefs no later than 30 days after the date of publication of this notice. Rebuttal briefs, which must be limited to issues raised in the case briefs, may be filed no later than 5 days after the time limit for filing the case briefs, in accordance with 19 CFR 351.309(d)(1). Any hearing, if requested, will be held two days after rebuttal briefs are due, unless the Department alters the date, in accordance with 19 CFR 351.310(d)(1). The Department intends to issue a notice of final results of this second sunset review, which will include the results of its analysis of issues raised in any such briefs, no later than February 27, 2007.

This five-year (“sunset”) review and notice are in accordance with sections 751(c), 752(c), and 777(i)(1) of the Act.

Dated: October 20, 2006.
David M. Spooner,
Assistant Secretary for Import Administration.

[FR Doc. E6-17979 Filed 10-25-06; 8:45 am]

BILLING CODE 3510-DS-P